FEDERAL COMMUNICATIONS COMMISSION

47 CFR Chapter I

[PSHSB: PS Docket No. 23-239; DA 23-852; FR ID 173197]

Cybersecurity Labeling for Internet of Things

AGENCY: Federal Communications Commission.

ACTION: Proposed rule; extension of comment and reply comment periods; and correction.

SUMMARY: In this document, the Federal Communications Commission extends the comment and reply comment periods of the Notice of the Proposed Rulemaking (NPRM) in PS Docket No. 23-239 that was released on August 10, 2023. This document also corrects a Uniform Resource Locator (URL) link in the summary of the NPRM that was published in the Federal Register on August 25, 2023.

DATES: The deadline for filing comments is extended to October 6, 2023, and the deadline for filing reply comments is extended to November 10, 2023.

ADDRESSES: You may submit comments, identified by PS Docket No. 23-239 by any of the following methods:

• Federal Communications Commission's Website: https://apps.fcc.gov/ecfs/. Follow the instructions for submitting comments.

• Mail: Parties who choose to file by paper must file an original and one copy of each filing. If more than one docket or rulemaking number appears in the caption of this proceeding, filers must submit two additional copies for each additional docket or rulemaking number. Filings can be sent by commercial overnight courier, or by first-class or overnight U.S. Postal Service mail. All filings must be addressed to the Commission's Secretary, Office of the Secretary, Federal Communications Commission. Commercial overnight mail (other than U.S. Postal Service Express Mail and Priority Mail) must be sent to 9050 Junction Drive, Annapolis Junction, MD 20701. U.S. Postal Service first-class, Express, and Priority mail must be addressed to 45 L Street NE, Washington, DC 20554.

Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

• People with Disabilities. To request materials in accessible formats for people with disabilities (braille, large print, electronic files, audio format), send an email to fcc504@fcc.gov or call the Consumer & Governmental Affairs Bureau at 202-418-0530 (voice), 202-418-0432 (tty).

FOR FURTHER INFORMATION CONTACT: Erika Olsen, Acting Chief, Cybersecurity and Communications Reliability Division, Public Safety and Homeland Security Bureau, (202) 418-2868, or by email to erika.olsen@fcc.gov; or James Zigouris, Attorney-Advisor, Cybersecurity and Communications Reliability Division, Public Safety and Homeland Security Bureau, (202) 418-0697, or by email to james.zigouris@fcc.gov.

SUPPLEMENTARY INFORMATION: This is a summary of the Federal Communication Commission's (Commission's) Order in PS Docket No. 23-239, adopted and released on September 15, 2023. For the full text of this document, visit FCC's website at https://www.fcc.gov/document/comment-deadline-extended-cybersecurity-iot-labeling-nprm or obtain access via the FCC's Electronic Comment Filing System (ECFS) website at http://www.fcc.gov/ecfs. (Documents will be available electronically in ASCII, Microsoft Word, and/or Adobe Acrobat.) Alternative formats are available for people with disabilities (braille, large print, electronic files, audio format), by sending an email to fcc504@fcc.gov or calling the Commission's Consumer and Governmental Affairs Bureau at (202) 418-0530 (voice), (202) 418-0432 (TTY).

In addition, in the Federal Register of August 25, 2023, (88 FR 58211, Document No. 2023-18357) in the ADDRESSES section on page 58211, in the second column, the URL in the first bullet is corrected to provide that comments may be filed as follows: Federal Communications Commission's website: https://apps.fcc.gov/ecfs/. Follow the instructions for submitting comments.

I. Synopsis

1. By this Order, the Public Safety and Homeland Security Bureau (PSHSB) grants in part Motions filed by (1) a “Joint Trade Association” and (2) a coalition of organizations including the Alliance for Automotive Innovation; Information Technology Industry Council (ITI); National Electrical Manufacturers Association (NEMA); Security Industry Association (SIA); and U.S. Chamber of Commerce (Coalition). The Motions seek an extension of time for filing comments and reply comments in response to the Notice of Proposed Rulemaking (NPRM) in PS Docket No. 23-239 that was released on August 10, 2023. See “Joint Trade Assn Request for Extension of Comment Deadline,” PS Docket No. 23-239 (filed Aug. 31, 2023)(Joint Trade Association Motion). See also “090623 Coalition Letter_FCC_Extension of Comments_Final,” PS Docket No. 23-239 (filed Sept. 6, 2023)(Coalition Motion). For the reasons stated below, PSHSB finds that the extension requests within the Motions are warranted in-part and thus extends the comment and reply comment deadlines to October 6, 2023, and November 10, 2023, respectively.

2. On August 10, 2023, the Commission released the NPRM seeking comment on a proposed voluntary cybersecurity labeling program to provide consumers with clear information about the security of their Internet of Things (IoT) devices. 88 FR 58211 (Aug. 25, 2023). The NPRM seeks comment on who should oversee and manage the program, how to develop the security standards that could apply to different types of devices or products, how to demonstrate compliance with those security standards, and how to safeguard the cybersecurity label against unauthorized use, amongst other considerations. Id. The summary of the Federal Register publication provides that comments must be filed on or before September 25, 2023, and reply comments must be filed on or before October 10, 2023. Id.

3. In the Joint Trade Association Motion, the Joint Trade Association requests a 30-day extension of the comment filing deadline, i.e., October 24, 2023, and an extension of the reply comment deadline until 45 days after the comment filing deadline, i.e., December 8, 2023. Similarly, in the Coalition Motion, the Coalition requests the comment filing deadline to be extended to October 24, 2023, and the reply comment deadline extended to December 8, 2023. The Joint Trade Association supports their request by stating there is good cause to extend the deadlines due to “(1) the highly technical and complex nature of the NPRM, and (2) the breadth of affected stakeholders,” among other arguments. The Coalition supports their request by providing that the extensions are needed “to give the private sector sufficient time to assess the potential effects of the rulemaking and develop thoughtful comments for the Commission's consideration,” among other arguments. No opposition to these Motions have been filed.

4. The Commission grants a 11-day extension of time to file comments and extension of time to file reply comments in this proceeding until 35 days after the comment date. As set forth in section 1.46 of the Commission's rules, 47 CFR 1.46, the Commission does not routinely grant extensions of time for filing comments. In this case, however, the extension requests are unopposed and will allow commenters sufficient time to file meaningful comments and reply comments and still provide a robust record on which the Commission can make a decision. Further, in view of the dozens of comments already received, extending the comment deadline beyond 11 days is unnecessary since a robust record will develop without needing a 30-day extension. Therefore, the Commission partially grants the unopposed Motions and extends the comment and reply comment deadlines to October 6, 2023, and November 10, 2023, respectively.

II. Ordering Clauses

5. Accordingly, it is ordered that, pursuant to section 4(i) of the Communications Act of 1934, as amended, 47 U.S.C. 154(i), and sections 0.204, 0.392, and 1.46 of the Commission's rules, 47 CFR 0.204, 0.392, 1.46, the Motions for Extension of Time are granted in part and otherwise denied.

6. It is further ordered that the date to file comments and reply comments in response to the NPRM are extended to October 6, 2023, and November 10, 2023, respectively.

Federal Communications Commission.
Maureen Bizhko,
Chief of Staff, Public Safety and Homeland Security Bureau.

[FR Doc. 2023-20921 Filed 9-25-23; 8:45 am]

BILLING CODE 6712-01-P